SMALL BUSINESS ADMINISTRATION

Data Collection Available for Public Comments

ACTION: 60-Day notice and request for comments.

SUMMARY: The Small Business Administration (SBA) intends to request approval, from the Office of Management and Budget (OMB) for the collection of information described below. The Paperwork Reduction Act (PRA) of 1995, requires federal agencies to publish a notice in the Federal Register concerning each proposed collection of information before submission to OMB, and to allow 60 days for public comment in response to the notice. This notice complies with that requirement.

DATES: Submit comments on or before April 28, 2017.

ADDRESSES: Send all comments to Mary Frias, Loan Specialist, Office of Financial Assistance, Small Business Administration, 409 3rd Street SW., Washington, DC 20416.

FOR FURTHER INFORMATION CONTACT: Mary Frias, Loan Specialist, Office of Financial Assistance, mary.frias@sba.gov, 202-401-8234, or Curtis B. Rich, Management Analyst, 202-205-7030, curtis.rich@sba.gov;

SUPPLEMENTARY INFORMATION: The purpose of this data collection is to monitor loan payment information on SBA loan portfolios arising from the Immediate Disaster Assistance Program. This exercise will involve monthly updates on the payments received by lenders from small businesses that have received funding through this guaranty program. The Agency looks to better manage the program's effectiveness by having lenders provide this form of periodic reporting to SBA.

Solicitation of Public Comments

SBA is requesting comments on (a) Whether the collection of information is necessary for the agency to properly perform its functions; (b) whether the burden estimates are accurate; (c) whether there are ways to minimize the burden, including through the use of automated techniques or other forms of information technology; and (d) whether there are ways to enhance the quality, utility, and clarity of the information.

Summary of Information Collection:

Title: Guaranteed Disaster Assistance Program—Payment Reporting.

Description of Respondents: Lenders who received funding through this guaranty program.

Form Number: N/A.

Total Estimated Annual Responses: 5,604.

Total Estimated Annual Hour Burden: 467.

Curtis B. Rich,
Management Analyst .

[FR Doc. 2017-03774 Filed 2-24-17; 8:45 am]

BILLING CODE 8025-01-P